DEPARTMENT OF ENERGY

Federal Energy Regulatory Commission

[Project No. 637-022—WA]

Public Utility District No.1 of Chelan County; Notice of Availability of Draft Environmental Assessment

November 25, 2002.

In accordance with the National Environmental Policy Act of 1969 and the Federal Energy Regulatory Commission's (Commission) regulations, 18 CFR part 380 (Order No. 486, 52 FR 47897), Office of Energy Projects staff have reviewed the application for a new license for the Lake Chelan Hydroelectric Project, an existing, operating facility located on the Chelan River near the City of Chelan, Washington. The 48-megawatt project occupies land managed by the U.S. Forest Service and the National Park Service. In the DEA, the staff has analyzed the potential environmental impacts of the existing project and has concluded that approval of the project, with appropriate environmental protection measures, would not constitute a major federal action significantly affecting the quality of the human environment.

Comments on the DEA should be filed by January 6, 2003. Comments should be filed with: Magalie R. Salas, Secretary, Federal Energy Regulatory Commission, 888 First Street, NE., Washington, DC 20426. Documents may also be filed electronically via the Internet in lieu of paper. See 18 CFR 385.2001(a)(1)(iii) and the instructions on the Commission's Web site at http://www.ferc.gov under the “e-Filing” link.

Copies of the DEA can be viewed at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659.

Magalie R. Salas,
Secretary.

[FR Doc. 02-30517 Filed 11-29-02; 8:45 am]

BILLING CODE 6717-01-P